DEPARTMENT OF AGRICULTURE

Food and Nutrition Service

Privacy Act of 1974; Computer Matching Program

AGENCY: Food and Nutrition Service (FNS), USDA.

ACTION: Notice of a new matching program.

SUMMARY: In accordance with The Privacy Act of 1974, as amended, USDA FNS is providing notice of a new computer matching program (CMP) between FNS and the State agencies that administer the Supplemental Nutrition Assistance Program (SNAP). The CMP allows State agencies access to the National Accuracy Clearinghouse (NAC), a national database operated by FNS, as a tool to prevent individuals from receiving SNAP benefits in more than one State simultaneously, commonly referred to as duplicate participation. State agencies provide information about SNAP applicants and participants to the NAC that is then compared to discover potential duplicate participation. The NAC CMP employs a Privacy-Preserving Record Linkage (PPRL) approach that identifies and links records that correspond to the same individual across different databases, without the need to collect or retain the names, Social Security numbers, or dates of birth of the individuals being matched. State agencies use the PPRL process to convert this information to a secure cryptographic hash before sharing it to the NAC. When a match is found, indicating potential duplicate participation, the NAC notifies the affected State agencies and facilitates communication between the State agencies as they each take action to resolve the match.

DATES: The effective date of the new matching program will be no sooner than 30 days from the publication of this notice, provided no comments are received that result in a contrary determination. The matching program will be conducted for an initial term of 18 months and, within three months of expiration, may be renewed for one additional year if the parties make no change to the matching program and certify that the program has been conducted in compliance with the agreement. Please submit any comments by June 26, 2023.

ADDRESSES: Interested parties may submit written comments by one of the following methods:

• Preferred: Federal eRulemaking Portal at http://www.regulations.gov provides the ability to type short comments directly into the comment field on this web page or attach a file for lengthier comments. Follow the online instructions at that site for submitting comments.

• By email: FNS, SNAP, State Administration Branch (SAB) at SM.FN.SNAPSAB@usda.gov.

• By mail: Maribelle Balbes, Branch Chief, SAB, SNAP, FNS, 1320 Braddock Place, Alexandria, VA 22314.

• Instructions: All comment submissions must include the agency name and docket number for this rulemaking. All comments received will be posted without change to http://www.regulations.gov, including any personal information provided.

• Docket: For access to the docket to read background documents or comments received go to http://www.regulations.gov.

FOR FURTHER INFORMATION CONTACT: For general questions, please contact the above individual, Maribelle Balbes, Branch Chief, SAB, SNAP, FNS at Maribelle.Balbes@usda.gov or 703-605-4272.

SUPPLEMENTARY INFORMATION: The Privacy Act of 1974, as amended, 5 U.S.C. 552a, provides certain protections for individuals applying for and receiving Federal benefits. The law governs the use of computer matching by Federal agencies when records in a system of records, which contains information about individuals that are retrieved by name or other personal identifier, are matched with records of other Federal, State, or local government records. The Privacy Act requires agencies involved in a matching program to:

1. Obtain approval of a Computer Matching Agreement, prepared in accordance with The Privacy Act, by the Data Integrity Board of any Federal agency participating in a matching program.

2. Enter into a written Computer Matching Agreement.

3. Provide a report of the matching program to Congress and the Office of Management and Budget (OMB), and make it available to the public, as required by 5 U.S.C. 552a(o), (u)(3)(A), and (u)(4).

4. Publish a notice of the matching program in the Federal Register as required by 5 U.S.C. 552a(e)(12) after OMB and Congress complete their review of the report, as provided by OMB Circular A-108, Federal Agency Responsibilities for Review, Reporting, and Publication under The Privacy Act.

5. Notify the individuals whose information will be used in the matching program that the information they provide is subject to verification through matching, as required by 5 U.S.C. 552a(o)(1)(D).

6. Verify match findings before suspending, terminating, reducing, or making a final denial of an individual's benefits or payments or taking other adverse action against the individual, as required by 5 U.S.C. 552a(p).

This matching program meets these requirements.

Participating Agencies

FNS and the State agencies that administer SNAP to include all 50 States, the District of Columbia, Guam, and the U.S. Virgin Islands.

Authority for Conducting the Matching Program

The Food and Nutrition Act of 2008 (FNA), as amended, 7 U.S.C. 2020(x), provides the legal authority for conducting the matching program. Section 11(x) requires FNS to establish an interstate data system to be known as the NAC and to promulgate regulations to set requirements for use of the NAC. The FNA requires State agencies to participate in the NAC matching program as both providers of data to the NAC and users of the information in the NAC that has been provided by the other State agencies to detect and prevent duplicate participation in SNAP.

Purpose(s)

The NAC CMP is intended to (1) enhance Program integrity by providing State agencies with a tool to screen for duplicate participation and take timely action to reduce improper payments and (2) improve Program access and customer experience by facilitating State-to-State communication to help State agencies promptly and accurately process SNAP recipient moves from one State to another.

To meet this purpose, State agencies participate in this CMP as both providers and users of information in the NAC. Each State agency must submit information to the NAC about individuals applying for SNAP benefits within the State and those existing participants certified to receive SNAP benefits. Each State agency also has access to the NAC to perform the required queries against information provided by the other State agencies to discover potential duplicate participation. The NAC compares the secure hashes provided by State agencies to find matches and notifies the affected State agencies when a match is found. After being notified of a match, State agencies must take appropriate action to resolve the match, while ensuring timely, accurate, and fair service to SNAP applicants and recipients. The NAC facilitates this process by providing a method for State agencies to share information with each other as they each take the necessary steps to determine and enact the appropriate resolution.

Categories of Individuals

SNAP applicants, new household members, and recertifying participants are matched against the NAC as part of the eligibility determination process to ensure the individual is not currently receiving benefits in another state.

Categories of Records

State agencies are required by regulations at 7 CFR 272.18(b) to provide information about SNAP participants and applicants, SNAP case information, and match action and resolution information. The NAC will also contain information created by the system when a match is found.

Information on Individuals

State agencies are required to put names, Social Security numbers, and dates of birth through a Privacy-Preserving Record Linkage (PPRL) process that converts these data elements to a secure cryptographic hash before sharing the information to the NAC. When two or more hashes match, a positive match is identified by the NAC. State agencies are also required to provide a Participant ID to the NAC to allow the State agency to connect the match in the NAC to an individual in the State agency's system for match resolution. Requirements:

1. Data elements for match: Name, Social Security number, date of birth.

2. Additional information: Participant ID and, when applicable, a vulnerable individual flag.

SNAP Case Information

Other case information provided by State agencies allows insight into the matched individual's situation in that State. These elements should be uploaded to the NAC, if available and applicable:

1. Case number

2. Participant closing date

3. Recent benefit months

Match Resolution Information

This is information provided about actions taken to pursue clarification and verification of the information received from the NAC. This includes the final disposition of the match information on the participant in which a match was found. Information required:

1. Initial action

2. Date of initial action

3. Final disposition

4. Date of final disposition

Information Generated by the System

1. Match ID: When a match is found, the NAC will create a match record and generate a unique match ID to identify the record in the NAC. The match ID will be provided to the affected State agencies as part of the match notification to allow them to find the match record in the NAC.

2. Match record: The match record will contain information about the match itself, such as the date of the match and the affected States and the SNAP case information previously provided by the State agencies, including the Participant ID. Each State agency will use the Participant ID provided in the match record to identify the matched individual in its own eligibility system. This is needed because the NAC will not contain the names, Social Security numbers, or dates of birth of matched individuals.

System(s) of Records

The system of records for this data exchange comprising the NAC is USDA/FNS-14, National Accuracy Clearinghouse (NAC) System to Prevent Duplicate Participation, 88 FR 11403 (Feb. 23, 2023). This data exchange is authorized under routine uses.

Cynthia Long,
Administrator, Food and Nutrition Service.

[FR Doc. 2023-11161 Filed 5-24-23; 8:45 am]

BILLING CODE 3410-30-P